DEPARTMENT OF STATE

[Public Notice: 12335]

Global Magnitsky Human Rights Accountability Act Annual Report

ACTION: Notice.

SUMMARY: This notice contains the text of the report required by the Global Magnitsky Human Rights Accountability Act, as submitted by the Secretary of State.

FOR FURTHER INFORMATION CONTACT: Andrew Self, Email: SelfAH@state.gov, Phone: (202) 412 3586.

SUPPLEMENTARY INFORMATION: On January 25, 2024, the Under Secretary of State for Political Affairs approved the following report pursuant to the Global Magnitsky Human Rights Accountability Act (Pub. L. 114-328, title XII, subtitle F) (“the Act”), which is implemented and built upon by Executive Order 13818 of December 20, 2017, “Executive Order Blocking the Property of Persons Involved in Serious Human Rights Abuse or Corruption” (E.O. 13818). The text of the report follows:

Pursuant to section 1264 of the Act, and in accordance with E.O. 13818, the Secretary of State, in consultation with the Secretary of the Treasury, submits this report to detail the Administration's implementation of the Act in the 2023 reporting period.

In 2023, the United States took significant action under the Global Magnitsky sanctions program (“Global Magnitsky”), sanctioning 78 foreign persons over the course of the year. As of December 2023, the United States has sanctioned over 650 foreign persons (individuals and entities) pursuant to E.O. 13818 since 2017. This sanctions program, which targets those connected to serious human rights abuse, corrupt actors, and their enablers, represents the best of the United States' values and enduring commitment to promoting respect for human rights and combatting corruption around the world. Through Global Magnitsky, the United States has sought to disrupt and deter serious human rights abuse and corruption abroad; promote accountability for those who act with impunity; and maintain U.S. global leadership on anti-corruption and human rights promotion in coordination with U.S. partners, allies, and civil society where appropriate. The Administration can and will continue to utilize this tool to promote respect for human rights and the rule of law globally.

As the President outlined in the National Security Strategy (NSS), the United States will stand with our allies and partners to combat new threats confronting our democracies. The Administration will take special aim at countering corruption, which corrodes democracy from the inside, erodes government stability, impedes economic development, and is increasingly weaponized by authoritarian states to undermine democratic institutions. The United States also seeks to promote respect for human rights; address discrimination, inequity, and marginalization in all its forms; and stand up for democracy, the rule of law, and human dignity. On all these issues, the United States works to forge a common approach with likeminded countries. Through implementation of the Global Magnitsky sanctions program, the Administration is taking action to execute the President's vision as described in the NSS.

Global Magnitsky, paired with cooperation with likeminded international partners, directly addresses the objectives outlined in the 2021 United States Strategy on Countering Corruption (“the strategy”), which underscores the fight against corruption as a national security priority. The strategy directs U.S. government action to: strengthen efforts to hold accountable corrupt individuals and their facilitators, including by, where appropriate, identifying, freezing, and recovering stolen assets through sanctions or other authorities; bolster the capacity of domestic and international institutions and multilateral bodies focused on establishing global anti-corruption norms; and work with international partners to counteract strategic corruption by foreign leaders, foreign state-owned or affiliated enterprises, and other foreign actors and their domestic collaborators.

The strategy spotlights the Global Magnitsky sanctions program among the U.S. Government's foreign policy tools for promoting global accountability for serious human rights abuse and corruption through the imposition of financial sanctions on foreign persons.

Actions taken in 2023 continue to demonstrate the reach, flexibility, and broad scope of Global Magnitsky. The United States responded to serious human rights abuse and corruption globally, deterring and disrupting some of the most egregious behavior by foreign actors. Actions taken in 2023 targeted, among others, corrupt politicians undermining the rule of law in Paraguay, Guatemala, Bulgaria, and Haiti and serious human rights abuse involving Russia's treatment of human rights defender, prominent opposition leader, author, and historian Vladimir Kara-Murza as well as abductions and sexual violence committed by Haitian gangs and their leaders. Actions against Paraguayan and former Afghan government officials highlighted the U.S. Government's ongoing effort to disrupt pervasive corruption and illicit financial networks in their most entrenched forms and at the highest level of public office.

When considering financial sanctions under Global Magnitsky, the United States prioritizes actions that are expected to produce a tangible and significant impact on corrupt actors, serious human rights abusers, and their affiliates, and prompt changes in behavior or disrupt the activities of malign actors. Sanctions under Global Magnitsky aim to target systemic corruption and human rights abuse, including the networks that engage in, facilitate, or perpetuate sustained patterns of such illicit behavior. Persons sanctioned pursuant to this authority appear on the Office of Foreign Assets Control's (OFAC's) List of Specially Designated Nationals and Blocked Persons (SDN List). As a result of these actions, all property and interests in property of the sanctioned persons that are in the United States or in the possession or control of U.S. persons are blocked and must be reported to OFAC. Unless authorized by a general or specific license issued by OFAC or otherwise exempt, OFAC's regulations generally prohibit all transactions by U.S. persons or within (or transiting) the United States that involve any property or interests in property of designated or otherwise blocked persons. The prohibitions include the making of any contribution or provision of funds, goods, or services by, to, or for the benefit of any blocked person or the receipt of any contribution or provision of funds, goods, or services from any such person.

In 2023, the Secretary of the Treasury, in consultation with the Secretary of State and the Attorney General, imposed economic sanctions on the following 78 foreign persons (individuals and entities) pursuant to E.O. 13818:

Afghanistan

• Fariduddin Mahmood: Mahmood was designated on December 8, 2023, for being a foreign person who is responsible for, or complicit in—or has directly or indirectly engaged in—serious human rights abuses involving the restriction of access to all secondary education for women and girls in Afghanistan, solely on the basis of gender, which interferes with their enjoyment of equal protection. Mahmood is a member of the Taliban's so-called “cabinet” that made decisions to close education centers and schools to women and girls after the sixth grade. He serves as the so-called “head of the Afghanistan Academy of Sciences” and supported the education-related bans on women and girls.

• Khalid Hanafi: Hanafi was designated on December 8, 2023, for being a foreign person who is, or has been, a leader or official of an entity, including any government entity, that has engaged in, or whose members have engaged in, serious human rights abuse relating to the leader's or official's tenure. Hanafi serves as the Taliban's so-called “Minister” for the so-called “Ministry for the Propagation of Virtue and Prevention of Vice” (MPVPV). Since August 2021, members of the so-called MPVPV have engaged in serious human rights abuse, including killings, abductions, whippings, and beatings. Members of the so-called MPVPV have assaulted people protesting the restrictions on women's activity, including access to education.

• Mir Rahman Rahmani and Ajmal Rahmani: Mir Rahmani and Ajmal Rahmani, collectively “the Rahmanis,” were designated on December 11, 2023, for being government officials, or persons acting for or on behalf of such an official, who are responsible for or complicit in, or have directly or indirectly engaged in, corruption, including the misappropriation of state assets, the expropriation of private assets for personal gain, corruption related to government contracts or the extraction of natural resources, or bribery. The Rahmanis engaged in corruption related to government contracts involving the import and delivery of fuel, contract inflation, import tax fraud, fuel theft, and parliamentary corruption.

○ On December 11, 2023, 41 entities were designated for being owned or controlled by, or having acted or purported to act for or on behalf of, directly or indirectly, Ajmal Rahmani:

□ 21 German companies: Ozean Immobilien Projektentwicklung Verwaltungs- GmbH, Ozean Immobilien Management GmbH & Co. KG, Ozean Immobilien Projektentwicklung GmbH & Co. KG, Pyramaxia Immoprojekt GmbH & Co. KG, Pyramaxia Real Estate Development GmbH & Co. KG, Pyramaxia Real Estate GmbH & Co. KG, Ozean Group GmbH, Ozean Baustoffe GmbH & Co. KG, Ozean Horizont Baumaschinen & Bauequipment GmbH & Co. KG, Ozean Horizont Bauwerke GmbH, Ozean Horizont Erdarbeiten GmbH & Co. KG, Ozean Horizont Objektplanung GmbH & Co. KG, Ozean Horizont Projektentwicklungs GmbH & Co. KG, Ozean Horizont Spezialtiefbau GmbH & Co. KG, RG Immoprojekt GmbH & Co. KG, RG Real Estate Development GmbH & Co. KG, RG Real Estate GmbH & Co. KG, NAI Energy Europe GmbH & Co. KG, NAI Energy Europe Verwaltungs GmbH, NAI Europe Energy GmbH & Co. KG, and NAI Management GmbH

□ Eight Cypriot companies: Pyramaxia Limited, RG Holdings Limited, NAI Logistics Limited, Buoyant Holdings Limited, Ocean Europe CY Limited, DCH. Dream Creators Holdings LTD, Riseonic Holdings LTD, and ZEM Holdings LTD

□ Six Emirati companies: RG Group FZE, The Fern Limited, Ascent Holdings LTD, Orbit International FZE, Ocean Estate Company Limited, and Rahmani Group International JLT

□ Two Afghan companies: Fidelis Logistic and Supply Services and Secure Movement Logistics Services

□ Two Austrian companies: Ocean Estate GmbH and Ocean Properties GmbH

□ One Dutch company: NAI Logistics B.V.

□ One Bulgarian company: Lego Investments EOOD

○ Additionally, the following two German companies were designated for being owned or controlled by, or for having acted or purported to act for or on behalf of, directly or indirectly, Ocean Properties GmbH: Ozean Development Real Estate GmbH & Co. KG and Ozean Real Estate GmbH & Co. KG.

○ The following Dutch company was designated for being owned or controlled by, or for having acted or purported to act for or on behalf of, directly or indirectly, RZ Group FZE: AlphaOne Pharmaceutical B.V.

Bulgaria

• Rumen Stoyanov Ovcharov: Ovcharov was designated on February 10, 2023, for being a foreign person who is a current or former government official, or a person acting for or on behalf of such an official, who is responsible for or complicit in, or has directly or indirectly engaged in, corruption, including the misappropriation of state assets, the expropriation of private assets for personal gain, corruption related to government contracts or the extraction of natural resources, or bribery. Ovcharov is a former Minister of Energy and Economy, Bulgarian member of parliament (MP), and current member of the Bulgarian Socialist Party (BSP) National Council. Ovcharov repeatedly engaged in corrupt energy contracts with Russian energy companies, receiving bribes and other kickbacks in exchange for fixed-price contracts for Russian gas and nuclear fuel and support contracts at the Kozloduy Nuclear Power Plant (KNPP). Russian-based nuclear fuel contracts negotiated by Ovcharov proxies overcharged KNPP up to €50 million, resulting in tens of millions in ill-gotten profits for participants.

• Aleksandar Hristov Nikolov: Nikolov was designated on February 10, 2023, for being a foreign person who is a current or former government official, or a person acting for or on behalf of such an official, who is responsible for or complicit in, or has directly or indirectly engaged in, corruption, including the misappropriation of state assets, the expropriation of private assets for personal gain, corruption related to government contracts or the extraction of natural resources, or bribery. Nikolov is a former CEO and deputy director of KNPP. Nikolov, Ovcharov, and Ivan Kirov Genov coordinated personal commissions by corruptly diverting service contracts for KNPP to their own business interests, avoiding scrutiny from Bulgarian officials through offshore management. Nikolov and Genov agreed to accept five million Bulgarian leva in bribes from foreign nuclear power executives in exchange for guarantees of KNPP contracts.

• Ivan Kirov Genov: Genov was designated on February 10, 2023, for being a foreign person who is a current or former government official who is responsible for or complicit in, or who has directly or indirectly engaged in corruption, including the misappropriation of state assets, the expropriation of private assets for personal gain, corruption related to government contracts or the extraction of natural resources, or bribery. Genov is a former CEO of KNPP and was a Bulgarian MP with the BSP from 2017 to 2019. Genov, Nikolov, and Ovcharov coordinated personal commissions by corruptly diverting service contracts for KNPP to their own business interests, avoiding scrutiny from Bulgarian officials through offshore management. Genov and Nikolov agreed to accept five million Bulgarian leva in bribes from foreign nuclear power executives in exchange for guarantees of KNPP contracts. Even after exiting his position as Executive Director of KNPP, Genov solicited three million Bulgarian leva in bribes from Bulgarian business executives to facilitate the reconsideration of KNPP contract awards to benefit their companies.

• Nikolay Simeonov Malinov: Malinov was designated on February 10, 2023, for being a foreign person who is a current or former government official, or a person acting for or on behalf of such an official, who is responsible for or complicit in, or has directly or indirectly engaged in, corruption, including the misappropriation of state assets, the expropriation of private assets for personal gain, corruption related to government contracts or the extraction of natural resources, or bribery. Malinov is a former MP from the BSP and leader of the pro-Russian lobby group Russophiles National Movement. After he was arrested and charged with espionage for spying for Russian-backed interests and barred from international travel in September 2019, Malinov bribed a Bulgarian judge to allow him to travel to Russia to personally receive the Friendship Medal from Russian President Vladimir Putin.

• Inter Trade 2021 EOOD, MS Konsult 2016 EOOD, Russophiles National Movement, Russophiles for the Revival of the Fatherland Political Party: These entities were designated on February 10, 2023, for being owned or controlled by, directly or indirectly, Malinov.

• Vladislov Ivanov Goranov: Goranov was designated on February 10, 2023, for being a foreign person who is a current or former government official, or a person acting for or on behalf of such an official, who is responsible for or complicit in, or has directly or indirectly engaged in, corruption, including the misappropriation of state assets, the expropriation of private assets for personal gain, corruption related to government contracts or the extraction of natural resources, or bribery. Goranov served as a Bulgarian MP and was Minister of Finance in the second and third administrations led by the Citizens for European Development of Bulgaria (GERB) political party until 2020. As Minister of Finance, Goranov participated in a corruption scheme that resulted in tens of millions of euros paid to Bulgarian officials in exchange for favorable legislation for interested parties involved in the gambling industry.

• Trilemma Consulting Ltd EOOD: This entity was designated on February 10, 2023, for being owned or controlled by, directly or indirectly, Goranov. Trilemma Consulting Ltd EOOD is a sole proprietorship consulting company.

Guatemala

• Luis Miguel Martinez Morales: Martinez was designated on December 1, 2023, for being a foreign person who is a current or former government official, or person acting for or on behalf of such an official, who is responsible for or complicit in, or who has directly or indirectly engaged in, corruption, including the misappropriation of state assets, the expropriation of private assets for personal gain, corruption related to government contracts or the extraction of natural resources, or bribery. Martinez is the former head of the now-defunct Centro de Gobierno. Martinez has influenced the government contracts process to benefit himself and close associates. Martinez colluded with other Guatemalan government officials to illegally award contracts to favored bidders outside of Guatecompras, the Guatemalan government's formal procurement system. Martinez and his conspirators used antiquated procurement law to forego the bidding process and secure government contracts for companies in which he has a financial interest.

Haiti

• Gary Bodeau: Bodeau was designated on April 5, 2023, for being a foreign person who is a current or former government official, or a person acting for or on behalf of such an official, who is responsible for or complicit in, or has directly or indirectly engaged in, corruption, including the misappropriation of state assets, the expropriation of private assets for personal gain, corruption related to government contracts or the extraction of natural resources, or bribery. Bodeau is the former President of the Haitian Chamber of Deputies. Bodeau was involved in several corrupt schemes wherein he engaged in efforts to influence the outcome of Haitian political appointments, including facilitating and soliciting bribes worth millions of dollars. In 2018, Bodeau paid Haitian officials to secure their votes while seeking ministerial position appointments. He also solicited a large bribery payment worth hundreds of thousands of dollars from senior government officials in exchange for his political support. In 2019, Bodeau offered to deliver a successful vote in the Chamber of Deputies for a prospective ministerial appointee in exchange for millions of dollars paid out through individual payments to members of the Chamber of Deputies.

• Johnson André, Renel Destina, Vitel'homme Innocent, and Wilson Joseph: André, Destina, Innocent, and Joseph were each designated on December 8, 2023 for being a foreign person who is responsible for or complicit in, or has directly or indirectly engaged in, serious human rights abuse and for being a foreign person who is or has been a leader or official of an entity, including any government entity, that has engaged in, or whose members have engaged in, serious human rights abuse relating to the leader's or official's tenure in their roles as leaders of criminal gangs in Haiti. Respectively, André, Destina, Innocent, and Joseph are the leaders of four criminal gangs: 5 Segond, Grand Ravine, Kraze Baryé, and 400 Mawozo. Innocent and Joseph have both been indicted by the U.S. Department of Justice for their role in the armed kidnapping of U.S. citizens in Haiti. André and his gang have been identified by survivors as being directly responsible for 1,035 documented cases of sexual violence in 2022 alone. Destina, who is a key ally of André, has committed kidnappings as well as killings, robberies, rapes, looting and burning of residences, and continuous attacks against Haitian police officers.

Liberia

• Jefferson Koijee: Koijee was designated on December 8, 2023, for being a foreign person who is responsible for or complicit in, or who has directly or indirectly engaged in, serious human rights abuse and for being a foreign person who is a current or former government official, or a person acting for or on behalf of such an official, who is responsible for or complicit in, or who has directly or indirectly engaged in, corruption, including the misappropriation of state assets, the expropriation of private assets for personal gain, corruption related to government contracts or the extraction of natural resources, or bribery. Koijee and his supporters have been involved in violence in connection with: an opposition rally in July 2022, students attending a memorial service for former Liberian president Amos Sawyer in March 2022, an anti-rape protest in August 2020, a student graduation ceremony in December 2019, and an opposition rally in November 2018. Koijee has also engaged in corrupt acts, including bribery and misappropriation of state assets for use by private political movements and pressuring anti-corruption investigators to halt corruption investigations.

Paraguay

• Horacio Manuel Cartes Jara: Cartes was designated on January 26, 2023, for being a foreign person who is a current or former government official, or a person acting for or on behalf of such an official, who is responsible for or complicit in, or has directly or indirectly engaged in corruption, including the misappropriation of state assets, the expropriation of private assets for personal gain, corruption related to government contracts or the extraction of natural resources, or bribery. Former Paraguayan president Cartes engaged in corruption before, during, and after his term as President of Paraguay. Cartes paid party members up to $10,000 each to support his candidacy ahead of the 2013 elections. While President of Paraguay, Cartes continued his corrupt schemes, including making cash payments to officials in exchange for their loyalty and support. He maintained his grip on policymaking through monthly cash bribes paid out to loyal legislators; payments ranged from $5,000 to $50,000 per member. Cartes continued to influence legislative activities after leaving office, targeting political opponents, and bribing legislators to direct votes in his interest, with top supporters receiving as much as $50,000 monthly.

• Hugo Adalberto Velazquez Moreno: Velazquez was designated on January 26, 2023, for being a foreign person who is a current or former government official, or a person acting for or on behalf of such an official, who has engaged in, corruption, including the misappropriation of state assets, the expropriation of private assets for personal gain, corruption related to government contracts or the extraction of natural resources, or bribery. Then-Paraguayan Vice President Velazquez interfered in legal processes to protect himself and criminal associates from criminal investigations, including by bribing and threatening those who would expose his criminal activity.

• Tabacos USA Inc., Bebidas USA Inc., Dominicana Acquisition S.A., Frigorifico Chajha S.A.E.: These entities were designated on January 26, 2023, for being owned or controlled by Cartes.

• Tabacalera Del Este S.A. (Tabesa): On March 31, 2023, OFAC identified Tabesa as an entity that is owned, directly or indirectly, 50 percent or more by Cartes and added Tabesa to the SDN List.

People's Republic of China

• Gao Qi: Gao was designated on December 8, 2023, for being a foreign person who is or has been a leader or official of the Xinjiang Public Security Bureau (XPSB), an entity, including any government entity, that has engaged in, or whose members have engaged in, serious human rights abuse relating to his tenure. OFAC designated the XPSB on July 9, 2020, for being a foreign person responsible for, or complicit in, or that has directly or indirectly engaged in, serious human rights abuse. Gao was concurrently sanctioned under the Uyghur Human Rights Policy Act.

• Hu Lianhe: Hu was designated on December 8, 2023, for being a foreign person who is or has been a leader or official of an entity, including any government entity, that has engaged in, or whose members have engaged in, any of the activities described in subsection (ii)(A) of Section 1(a) of E.O. 13818. Hu has served as the Deputy Office Director for the Xinjiang Work Coordination Small Group of the Central Committee since 2012. The XWCSG engaged in direct and close involvement in the PRC's March 2017 Xinjiang Uyghur Autonomous Region “De-Extremification Regulation,” and its October 2018 revision, which provided the framework for Xinjiang's “de-extremification” through re-education campaign.

Russia

• Andrei Andreevich Zadachin: Zadachin was designated on March 3, 2023, for being a foreign person who is responsible for or complicit in, or has directly or indirectly engaged in, serious human rights abuse. Zadachin is a Special Investigator assigned to the Chief Investigative Directorate of the Investigative Committee of the Russian Federation. Zadachin ordered that a criminal case be initiated against Vladimir Kara-Murza based on his speech before the Arizona House of Representatives. Zadachin requested that detention be ordered as a pre-trial restraint for Kara-Murza and defended this request in court.

• Danila Yurievich Mikheev: Mikheev was designated on March 3, 2023, or being a foreign person who has materially assisted, sponsored, or provided financial, material, or technological support for, or goods or services to or in support of, serious human rights abuse that is conducted by a foreign person. Mikheev is a Russian Federation national who served as an expert witness for the Russian government on the case against Kara-Murza, reviewing video of Kara-Murza's speech and providing a report that served as part of the basis on which Elena Anatolievna Lenskaya ordered Kara-Murza be held.

• Elena Anatolievna Lenskaya: Lenskaya was designated on March 3, 2023, for being a foreign person who is responsible for or complicit in, or has directly or indirectly engaged in, serious human rights abuse. Lenskaya is a judge of the Basmannyy District Court in Moscow who oversaw Kara-Murza's pre-trial detention hearing. Lenskaya ordered that Kara-Murza be held in pre-trial detention on charges based on his exercising the right to freedom of expression.

Uganda

• Johnson Byabashaija: Byabashaija was designated on December 8, 2023, for being a foreign person who is or has been a leader or official of an entity, including any government entity, that has engaged in, or whose members have engaged in, serious human rights abuse relating to the leader's or official's tenure. Byabashaija has served as Commissioner General of the Uganda Prisons Service (UPS) since 2005. During that period, members of the UPS have engaged in serious human rights abuse against prisoners held within UPS facilities. Prisoners have reported being tortured and beaten by UPS staff and by fellow prisoners at the direction of UPS staff. Members of vulnerable groups, including government critics and members of Uganda's LGBTQI+ community, have been beaten.

Visa Restrictions Imposed

Persons designated pursuant to E.O. 13818 are subject to the entry restrictions articulated in section 2, unless an exception applies. Section 2 provides that the entry of persons designated under section 1 of the order is suspended pursuant to Presidential Proclamation 8693.

In 2023, the Department took steps to impose visa restrictions, when appropriate, on foreign persons involved in certain human rights violations and significant corruption pursuant to other authorities, including Presidential Proclamations 7750 and 8697, and Section 7031(c) of the Department of State, Foreign Operations, and Related Programs Appropriations Act. The Department will continue to identify individuals subject to those authorities as appropriate, including but not limited to individuals designated under Global Magnitsky. In addition, the Department continues to implement all grounds of inadmissibility in the Immigration and Nationality Act (INA), including INA section 212(a)(3)(E) which renders applicants ineligible for visas if a consular officer has reason to believe that they participated in acts of genocide, torture, or extrajudicial killings.

Efforts To Encourage Governments of Other Countries To Impose Sanctions Similar to Those Authorized by the Act

The United States recognizes that our sanctions are most impactful when implemented in coordination with our foreign partners. In 2023, the Administration continued its successful outreach campaign to international partners regarding the expansion and use of domestic and multilateral anticorruption and human rights sanctions regimes. Over the course of the reporting period, the Administration coordinated with likeminded partners in pursuing coordinated actions against human rights abusers and corrupt actors, particularly in the run up to annual International Anti-Corruption Day and Human Rights Day. The United States took its Human Rights Day actions in concert with the United Kingdom and Canada, each of which took similar measures to deter human rights abuse globally. Of note, in coordination with partners on the United Nations Security Council, the United States co-sponsored the designation by the Security Council of four Haitian gang leaders, consistent with the Presidential Memorandum on Conflict-Related Sexual Violence and underscoring the Administration's commitment to recognizing abhorrent abuse and promoting accountability for serious human rights abusers.

Though not concurrent with U.S. actions, the United Kingdom, Canada, European Union (EU), and Australia all took action against individuals in Russia connected to serious human rights abuse, namely the arbitrary detention of Russian pro-democracy activist Vladimir Kara-Murza. Additionally, the United States designated Gary Bodeau in April 2023, an individual previously designated by Canada under its Special Economic Measure for Haiti authority in November 2022. On the same day that the United States announced a second round of corruption sanctions in Bulgaria, the United Kingdom, together with U.S. government officials in Sofia, announced its designation of three corrupt Bulgarian actors for serious corruption and abuse of public institution funds under its Global Anti-Corruption and Global Human Rights regimes. The UK designations reinforced prior U.S. designations of these individuals under Global Magnitsky on June 2, 2021: Vassil Kroumov Bojkov, Delyan Slavchev Peevski, and Ilko Dimitrov Zhelyazkov. Similarly, in May 2023, the EU designated seven Moldovan individuals for undermining or threatening the sovereignty of Moldova, including Vladimir Plahotniuc, who was previously designated by the United States in October 2022 and by the United Kingdom in December 2022. In May 2023, Canada designated seven individuals, including Plahotniuc. In October 2023, Canada imposed sanctions on nine additional individuals associated with Plahotniuc. On December 8, 2023, the United States designated two Afghan individuals, including Khalid Hanafi, the Taliban's so-called “Minister” for the so-called “Ministry for the Propagation of Virtue and Prevention of Vice” (MPVPV) for serious human rights abuse related to the repression of women and girls, including through the restriction of access to secondary education for women and girls in Afghanistan solely on the basis of gender. The EU took similar action under its Global Human Rights Sanctions Regime on July 20, 2023, imposing restrictive measures on two of the Taliban's so-called “acting Ministers”—including Hanafi—for their role in “depriving Afghan girls and women of their right to education, access to justice and equal treatment between men and women.”

The United States is closely following the potential development of an EU anti-corruption sanctions authority and stands ready to support EU efforts by sharing insights and offering technical support, including regarding evidence collection, addressing legal challenges, and evidentiary requirements. The Administration will continue to seek out additional allies and partners, including civil society, to leverage all tools at our disposal to deny access to the United States' and international financial systems and deny entry to the United States to all those who engage in serious human rights abuse and corruption.

Andrew H. Self,
Foreign Affairs Officer, Bureau of Economic and Business Affairs, Department of State.

[FR Doc. 2024-03532 Filed 2-22-24; 8:45 am]

BILLING CODE 4710-AE-P